DEPARTMENT OF VETERANS AFFAIRS

[OMB Control No. 2900-0092]

Agency Information Collection Activity: Information for Veteran Readiness and Employment Entitlement Determination

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Comments must be received on or before September 3, 2024.

ADDRESSES: Comments must be submitted through www.regulations.gov.

FOR FURTHER INFORMATION CONTACT:

Program-Specific information: Nancy Kessinger, 202-632-8924, nancy.kessinger@va.gov.

VA PRA information: Maribel Aponte, 202-461-8900, vacopaperworkreduact@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: VA Form 28-1902w, Information for Veteran Readiness and Employment Entitlement Determination.

OMB Control Number: 2900-0092. www.reginfo.gov/public/do/PRASearch (Once at this link, you can enter the OMB Control Number to find the historical versions of this Information Collection).

Type of Review: Revision of a currently approved collection.

Abstract: The VA Form 28-1902w, Information for Veteran Readiness and Employment Entitlement Determination is used by the Vocational Rehabilitation Counselor (VRC) with the Veteran during the comprehensive initial evaluation after the VA receives an application for Veteran or Service member Readiness and Employment benefits and has determined the Veteran is eligible to apply for Chapter 31 under Title 38 U.S.C. 3104(a) and 38 CFR 21.50. Use of the VA Form 28-1902w will allow the VA counselor to use the form to collect the information during the initial evaluation. The information is unique to each Veteran and must be collected to assist with making an entitlement determination during the initial evaluation or the counselor would not have enough information to properly evaluate the Veteran's circumstances. The information is collected only once. Information for Veteran Readiness and Employment Entitlement Determination takes approximately 45 minutes to complete.

Affected Public: Individuals and households.

Estimated Annual Burden: 48,097 hours.

Estimated Average Burden per Respondent: 45 minutes.

Frequency of Response: Once.

Estimated Number of Respondents: 64,129.

Authority: 44 U.S.C. 3501 et seq.

Maribel Aponte,
VA PRA Clearance Officer, Office of Enterprise and Integration/Data Governance Analytics, Department of Veterans Affairs.

[FR Doc. 2024-14537 Filed 7-1-24; 8:45 am]

BILLING CODE 8320-01-P